CHEMICAL SAFETY AND HAZARD INVESTIGATION BOARD

Sunshine Act Meeting

TIME AND DATE: January 17, 2013; 2:30 p.m. EST.

PLACE: Ronald Reagan Building and International Trade Center, Horizon Room, 1300 Pennsylvania Avenue NW., Washington, DC 20004.

STATUS: Open to the public.

MATTERS TO BE CONSIDERED: The Chemical Safety and Hazard Investigation Board (CSB) announces that it will convene a public meeting on Thursday, January 17, 2013, starting at 2:30 p.m. EST (8:30 a.m. Hawaii-Aleutian Standard Time) in the Horizon Room of the Ronald Reagan Building and International Trade Center at 1300 Pennsylvania Avenue NW., Washington, DC 20004.

The agenda for the meeting includes the presentation of the findings from the CSB investigation of the April 8, 2011, explosion and fire that killed five workers at a storage facility used by Donaldson Enterprises Inc. (DEI) near Honolulu, Hawaii. The explosion occurred during the disposal of professional-grade fireworks, illegally labeled for consumer use by a Chinese manufacturer, that had been seized by U.S. customs agents upon importation. DEI was performing the disposal work as a subcontractor to VSE Corporation, which held a contract with the U.S. Treasury Department for the disposal of seized property.

At the meeting, CSB staff will present to the Board the results of the investigation into this incident. Key issues identified in the investigation include the methods used to dispose of the fireworks, U.S. Government contracting standards for hazardous work, and the absence of a national standard or industry good practice for fireworks disposal. Following the staff presentation on proposed findings and safety recommendations, the Board will hear brief comments from the public.

Following the conclusion of the public comment period, the Board will consider whether to approve the final investigation report and recommendations. All staff presentations are preliminary and are intended solely to allow the Board to consider in a public forum the issues and factors involved in this case. No factual analyses, conclusions, or findings presented by staff should be considered final. Only after the Board has considered the staff presentations, listened to public comments, and adopted a final investigation report and recommendations will there be an approved final record of the CSB investigation of this incident.

The meeting will be free and open to the public. If you require a translator or interpreter, please notify the individual listed below as the CONTACT PERSON FOR FURTHER INFORMATION, at least five business days prior to the meeting.

The CSB is an independent Federal agency charged with investigating industrial accidents that result in the release of extremely hazardous substances. The agency's Board Members are appointed by the President and confirmed by the Senate. CSB investigations look into all aspects of accidents, including physical causes such as equipment failure, as well as inadequacies in regulations, industry standards, and safety management systems.

CONTACT PERSON FOR FURTHER INFORMATION: Hillary J. Cohen, Communications Manager, hillary.cohen@csb.gov or 202-261-7600. General information about the CSB can be found on the agency Web site at: www.csb.gov.

Dated: January 7, 2013.
Rafael Moure-Eraso,
Chairperson.

[FR Doc. 2013-00321 Filed 1-7-13; 4:15 pm]

BILLING CODE 6350-01-P